DEPARTMENT OF COMMERCE

National Oceanic and Atmospheric Administration

50 CFR Part 660

[Docket No. 230508-0124; RTID 0648-XD334]

Fisheries Off West Coast States; Modification of the West Coast Salmon Fisheries; Inseason Action #19-26

AGENCY: National Marine Fisheries Service (NMFS), National Oceanic and Atmospheric Administration (NOAA), Commerce.

ACTION: Inseason modification of 2023 management measures.

SUMMARY: NMFS announces eight inseason actions for the 2023-2024 ocean salmon fishing season. These inseason actions modify the recreational and commercial salmon fisheries in the area from the U.S./Canada border to Cape Falcon, Oregon.

DATES: The effective dates for these inseason actions are set out in this document under the heading “Inseason Actions” and the actions remain in effect until superseded or modified.

FOR FURTHER INFORMATION CONTACT: Shannon Penna, 562-980-4239, Shannon.Penna@noaa.gov.

SUPPLEMENTARY INFORMATION:

Background

The annual management measures for the 2023 and early 2024 ocean salmon fisheries (88 FR 30235, May 11, 2023) govern the commercial and recreational fisheries in the area from the U.S./Canada border to the U.S./Mexico border, effective from 0001 hours Pacific Daylight Time (PDT), May 16, 2023, until the effective date of the 2024 management measures, as published in the Federal Register. NMFS is authorized to implement inseason management actions to modify fishing seasons and quotas as necessary to provide fishing opportunity while meeting management objectives for the affected species (50 CFR 660.409). Inseason actions in the salmon fishery may be taken directly by NMFS (50 CFR 660.409(a)—Fixed inseason management provisions) or upon consultation with the Chairman of the Pacific Fishery Management Council (Council), and the appropriate State Directors (50 CFR 660.409(b)—Flexible inseason management provisions).

Management of the salmon fisheries is divided into two geographic areas: north of Cape Falcon (NOF) (U.S./Canada border to Cape Falcon, OR), and south of Cape Falcon (SOF) (Cape Falcon, OR, to the U.S./Mexico border). The actions described in this document affect the NOF commercial salmon troll and recreational fisheries, as set out under the heading Inseason Actions below.

Consultation with the Council Chairman on these inseason actions occurred on July 26, 2023, August 15, 2023, August 17, 2023, and August 25, 2023. These consultations included representatives from NMFS, Washington Department of Fish and Wildlife, Oregon Department of Fish and Wildlife, and California Department of Fish and Wildlife. Representatives from the Salmon Advisory Subpanel and Salmon Technical Team (STT) were also present. A Council representative was present on August 15, 2023.

These inseason actions were announced on NMFS' telephone hotline and U.S. Coast Guard radio broadcast on the date of the consultations (50 CFR 660.411(a)(2)).

Inseason Actions

Inseason Action #19

Description of the action: Inseason action #19 modifies the NOF ocean salmon recreational fishery from the Queets River to Leadbetter Point (Westport Subarea—Marine Area 2). Retention of Chinook salmon is prohibited on Fridays and Saturdays. Possession of Chinook salmon is illegal when retention is prohibited in the area.

Effective dates: Inseason action #19 takes effect on July 28, 2023, at 12:01 a.m., and remains in effect until superseded.

Reason and authorization for the action: Inseason action #19 was necessary to not exceed the Chinook salmon guideline due to high Chinook salmon catch and preserve the length of the season while continuing to allow access to coho salmon. The NMFS West Coast Regional Administrator (RA) determined that this inseason action is necessary to meet management and conservations goals for the 2023-2024 management measures after considering the best available information on the 2023 abundance forecasts for Chinook salmon stocks, landings and effort patterns to date, anticipated fishery effort and projected catch, the timing of the action relative to the length of the season, and the other factors and considerations set forth in 50 CFR 660.409. This inseason action modified recreational bag limits under 50 CFR 660.409(b)(1)(iii).

Inseason Action #20

Description of the action: Inseason action #20 modifies the NOF commercial salmon troll fishery. The area between the U.S./Canada border and Cape Falcon is open, the landing and possession limit decreased from 20 Chinook salmon and 150 adipose marked coho salmon per vessel per landing week (Thursday-Wednesday) to 7 Chinook salmon and 100 adipose marked coho salmon per vessel per landing week (Thursday—Wednesday).

Effective dates: Inseason action #20 takes effect on August 17, 2023, at 12:01 a.m., and remains in effect until September 30, 2023, at 11:59 p.m.

Reason and authorization for the action: Inseason action #20 was necessary to avoid exceedance of the Chinook salmon guideline and maximize catch of the available coho salmon quota. The RA determined that this inseason action is necessary to meet management and conservations goals for the 2023-2024 management measures after considering the best available information on the 2023 abundance forecasts for Chinook salmon stocks, landings and effort patterns to date, anticipated fishery effort and projected catch, the timing of the action relative to the length of the season, and the other factors and considerations set forth in 50 CFR 660.409. This inseason action modified quotas and/or fishing seasons under 50 CFR 660.409(b)(1)(i).

Inseason Action #21

Description of the action: Inseason action #21 modifies the NOF ocean recreational salmon fishery. The area from the Queets River to Leadbetter Point (Marine Area 2—Westport Subarea) is open with a daily limit of two salmon, only one of which may be a Chinook salmon. All coho salmon must be marked with a healed adipose fin clip.

Effective dates: Inseason action #21 takes effect on August 18, 2023, at 12:01 a.m., and remains in effect until September 30, 2023, at 11:59 p.m.

Reason and authorization for the action: Due to larger than expected Chinook salmon catch, inseason action #21 was necessary to manage Chinook salmon catch to preserve the length of the season while avoiding exceedance of the Chinook salmon guideline and maximizing catch of the available coho salmon quota. The RA determined that this inseason action is necessary to meet management and conservations goals for the 2023-2024 management measures after considering the best available information on the 2023 abundance forecasts for Chinook salmon stocks, landings and effort patterns to date, anticipated fishery effort and projected catch, the timing of the action relative to the length of the season, and the other factors and considerations set forth in 50 CFR 660.409. This inseason action modified recreational bag limits under 50 CFR 660.409(b)(1)(iii).

Inseason Action #22

Description of the action: Inseason action #22 modifies the NOF commercial salmon troll fishery from the U.S./Canada border to Cape Falcon. The coho salmon quota is adjusted, on an impact neutral basis, from mark-selective to non-mark-selective. The adjusted non-mark-selective coho salmon quota is 9,070. The landing and possession limit for coho salmon is modified to 100 coho salmon (marked or unmarked) per vessel per landing week (Thursday-Wednesday). The landing and possession limit for Chinook salmon remains 7 Chinook salmon per vessel per landing week (Thursday-Wednesday).

Effective dates: Inseason action #22 takes effect on August 26, 2023, at 12:01 a.m. and remains in effect until superseded.

Reason and authorization for the action: Inseason action #22 was necessary to avoid exceedance of the Chinook salmon guideline and maximize catch of the available coho salmon quota. The RA determined that this inseason action is necessary to meet management and conservations goals for the 2023-2024 management measures after considering the best available information on the 2023 abundance forecasts for Chinook salmon stocks, landings and effort patterns to date, anticipated fishery effort and projected catch, the timing of the action relative to the length of the season, and the other factors and considerations set forth in 50 CFR 660.409. This inseason action modified quotas and/or fishing seasons under 50 CFR 660.409(b)(1)(i).

Inseason Actions #23-#26

Descriptions of the actions: Inseason actions #23-#26 modify the NOF recreational salmon fisheries.

• Inseason action #23, the coho salmon quota in the area from Cape Falcon to Leadbetter Point (Columbia River subarea—Marine Area 1) is adjusted on an impact neutral basis, from mark-selective to non-mark-selective. The non-mark-selective coho salmon quota is 21,740. The daily limit is modified to two salmon per day, only one of which may be a Chinook salmon.

• Inseason action #24, the coho salmon quota in the area from the Queets River to Leadbetter Point (Westport subarea—Marine Area 2) is adjusted on an impact neutral basis, from mark-selective to non-mark-selective. The non-mark-selective coho salmon quota is 16,010. The daily limit is modified to two salmon per day, only one of which may be a Chinook salmon.

• Inseason action #25, the coho salmon quota in the area from Cape Alava to the Queets River (La Push subarea—Marine Area 3) is adjusted on an impact neutral basis, from mark-selective to non-mark-selective. The non-mark-selective coho salmon quota is 1,210. The daily limit is modified to two salmon per day; retention of chum salmon is prohibited.

• Inseason action #26, the coho salmon quota in the area from the U.S./Canada border to Cape Alava (Neah Bay subarea—Marine Area 4) is adjusted on an impact neutral basis, from mark-selective to non-mark-selective. The non-mark-selective coho salmon quota is 4,800. The daily limit is modified to two salmon per day; retention of chum salmon is prohibited. The portion of the subarea east of the Bonilla-Tatoosh line is closed to fishing for salmon.

Effective dates: Inseason actions #23-#26 take effect on August 26, 2023, at 12:01 a.m. and remain in effect until superseded.

Reason and authorization for actions #23-#26: Inseason actions #23-#26 were necessary to allow for increased access to the coho salmon quota, which had not been fully used, while not exceeding the impact limits for protected Chinook salmon stocks. Quotas have been adjusted downward in a manner to ensure that impacts to non-mark-selective coho salmon are not increased from preseason expected rates. The annual management measures (88 FR 30235, May 11, 2023) provide for inseason action to modify the regulations that restrict retention of un-marked coho salmon fishery while still achieving management objectives, including not exceeding allowable impacts on constraining Chinook and coho salmon stocks. The STT calculated the necessary adjustments to the coho salmon quota on an impact neutral basis for the constraining stocks in the NOF area.

The RA determined that these inseason actions are necessary to meet management and conservations goals for the 2023-2024 management measures after considering the best available information on the 2023 abundance forecasts for Chinook salmon stocks, landings and effort patterns to date, anticipated fishery effort and projected catch, the timing of the action relative to the length of the season, and the other factors and considerations set forth in 50 CFR 660.409. These inseason actions modified recreational bag limits authorized by 50 CFR 660.409(b)(1)(iii).

All other restrictions and regulations remain in effect as announced for the 2023 ocean salmon fisheries (88 FR 30235, May 11, 2023; 88 FR 44737, July 13, 2023; 88 FR 51250, August 3, 2023; 88 FR 53813, August 9, 2023; 88 FR 58522, August 28, 2023) except as previously modified by inseason actions.

The states and tribes manage the fisheries in state waters adjacent to the areas of the U.S. exclusive economic zone (3-200 nautical miles; 5.6-370.4 kilometers) off the coasts of the States of Washington, Oregon, and California consistent with these Federal actions. As provided by the inseason notice procedures at 50 CFR 660.411, actual notice of the described regulatory actions was given, prior to the time the actions became effective, by telephone hotline numbers 206-526-6667 and 800-662-9825, and by U.S. Coast Guard Notice to Mariners broadcasts on Channel 16 VHF-FM and 2182 kHz.

Classification

NMFS issues these actions pursuant to section 305(d) of the Magnuson-Stevens Fishery Conservation and Management Act (MSA). These actions are authorized by 50 CFR 660.409, which was issued pursuant to section 304(b) of the MSA, and are exempt from review under Executive Order 12866.

Pursuant to 5 U.S.C. 553(b)(3)(B), there is good cause to waive prior notice and an opportunity for public comment on this action, as notice and comment would be impracticable and contrary to the public interest. Prior notice and opportunity for public comment on this action was impracticable because NMFS had insufficient time to provide for prior notice and the opportunity for public comment between the time Chinook and coho salmon abundance, catch, and effort information were developed and fisheries impacts were calculated, and the time the fishery modifications had to be implemented in order to ensure that fisheries are managed based on the best scientific information available. As previously noted, actual notice of the regulatory action was provided to fishers through telephone hotlines and radio notifications. These actions comply with the requirements of the annual management measures for ocean salmon fisheries (88 FR 30235, May 11, 2023), the Pacific Salmon Fishery Management Plan (FMP), and regulations implementing the FMP under 50 CFR 660.409 and 660.411.

There is good cause under 5 U.S.C. 553(d)(3) to waive the 30-day delay in effective date, as a delay in effectiveness of this action would allow fishing at levels inconsistent with the goals of the FMP and the current management measures.

Authority: 16 U.S.C. 1801 et seq.

Dated: September 20, 2023.
Kelly Denit,
Director, Office of Sustainable Fisheries, National Marine Fisheries Service.

[FR Doc. 2023-20796 Filed 9-25-23; 8:45 am]

BILLING CODE 3510-22-P